DEPARTMENT OF COMMERCE

Foreign-Trade Zones Board

[Docket 7-2012]

Foreign-Trade Zone 45—Portland, OR; Expansion of Manufacturing Authority; Epson Portland, Inc.; Extension of Rebuttal Period

The rebuttal period for the application to expand the scope of manufacturing authority approved within Subzone 45F on behalf of Epson Portland, Inc., in Hillsboro, Oregon, submitted by the Port of Portland (77 FR 4006-4007, 1/26/2012, 77 FR 21082, 4/9/2012 and 77 FR 26252, 5/3/2012), is being extended based on a request from the applicant to July 23, 2012, to allow additional time for the submission of rebuttal comments. Rebuttal comments (original and one electronic copy) shall be addressed to the Board's Executive Secretary at: Foreign-Trade Zones Board, U.S. Department of Commerce, Room 2111, 1401 Constitution Ave. NW., Washington, DC 20230 and ftz@trade.gov.

For further information, contact Diane Finver at Diane.Finver@trade.gov or (202) 482-1367.

Dated: May 22, 2012.
Andrew McGilvray,
Executive Secretary.

[FR Doc. 2012-12805 Filed 5-24-12; 8:45 am]

BILLING CODE P